FEDERAL RETIREMENT THRIFT INVESTMENT BOARD

Sunshine Act; Notice of Board Member Meeting

Agenda

Federal Retirement Thrift Investment, Joint Board Member/ETAC Meeting, May 31, 2017, 8:30 a.m., (In-person), 77 K Street NE., Washington, DC 20002, Training Rooms A and B, 10th Floor.

Open Session

1. Approval of the Minutes of the April 24, 2017 Board Member Meeting

2. Approval of the Minutes of the November 14, 2016 ETAC Meeting

3. Monthly Reports

(a) Participant Activity Report

(b) Investment Performance Report

(c) Legislative Report

4. Quarterly Reports

(a) Metrics

(b) Project Activity

5. Blended Retirement Update

6. IT Update

7. L Funds “To” vs “Through” Study

8. TSP Investment Options Study

9. OCE Annual Report

Closed Session

Information covered under 5 U.S.C. 552b(c)(9)(B).

Adjourn

Contact Person for More Information: Kimberly Weaver, Director, Office of External Affairs, (202) 942-1640.

Dated: May 23, 2017.
Megan Grumbine,
General Counsel, Federal Retirement Thrift Investment Board.

[FR Doc. 2017-10929 Filed 5-23-17; 4:15 pm]

BILLING CODE 6760-01-P